FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011719.

Title: The Maersk Sealand/APL Slot Transfer Agreement.

Parties: Maersk Sealand, American President Lines, Ltd. (“APL”), APL Co. Pte Ltd. (“APL”).

Synopsis: The proposed agreement would permit Maersk Sealand to sell space to APL aboard its vessels operating in the trade between United States Atlantic and Gulf ports, and inland U.S. points via such ports, and ports in the United Kingdom, the Netherlands, and Germany, and inland points in Europe via such ports. The parties have requested expedited review.

Agreement No.: 011720.

Title: APL/CCNI Slot Transfer Agreement, FMC Agreement No. 011720.

Parties: American President Lines, Ltd. (“APL”), APL Co. PTE Ltd. (“APL”), Compania Chilena De Navegacion Interoeceanica (“CCNI”).

Synopsis: The proposed agreement, authorizes APL to sell slots on vessels operated by APL, or operated by non-parties on which APL has chartered slots in the trades between ports on the U.S. Gulf Coast and in Puerto Rico and ports in the Dominican Republic, Mexico, Costa Rica, Panama, the Caribbean Coast of Columbia and Venezuela, up to an annualized average of 300 TEUs per week.

Agreement No.: 201106.

Title: Terminal Agreement between The Port Authority of New York and New Jersey and Maersk Container Service Company, Inc.

Parties: The Port Authority of New York and New Jersey, Maersk Container Service Company, Inc.

Synopsis: The agreement provides for the lease of certain areas within the Elizabeth Port Authority Marine Terminal. The agreement runs through December 31, 2029.

By Order of the Federal Maritime Commission.
Dated: August 4, 2000.
Bryant L. VanBrakle,
Secretary.

[FR Doc. 00-20146 Filed 8-8-00; 8:45 am]

BILLING CODE 6730-01-P